Title 3—

The President

Presidential Determination No. 02-29 of August 30, 2002

Presidential Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest that up to $6.6 million be made available from the U.S. Emergency Refugee and Migration Assistance Fund for contributions to the Office of the United Nations High Commissioner for Refugees and to the International Committee of the Red Cross to address unexpected urgent refugee and migration needs arising from the crisis in Liberia and from the return of refugees to Sierra Leone.

You are authorized and directed to inform the appropriate committees of the Congress of this determination and the obligation of funds under this authority, and to publish this determination in the Federal Register.

B

THE WHITE HOUSE,

Washington, August 30, 2002.

[FR Doc. 02-22921

Filed 9-6-02; 8:45 am]

Billing code 4710-10-M